FEDERAL RESERVE SYSTEM

Change in Bank Control Notices, Acquisition of Shares of Bank or Bank Holding Companies; Correction

This notice corrects a notice (FR Doc. 2010-1508 published on page 4394 of the issue for Wednesday, January 27, 2010.

Under the Federal Reserve Bank of Chicago heading, the entry for Vernon R. Pfaff, Fairbury, Indiana, is revised to read as follows:

A. Federal Reserve Bank of Chicago (Colette A. Fried, Assistant Vice President) 230 South LaSalle Street, Chicago, Illinois 60690-1414:

1. Vernon R. Pfaff, individually, and as part of a group acting in concert with Barbara Ann Pfaff, both of Fairbury, Nebraska, to acquire voting shares of United Commerce Bancorp, and thereby indirectly acquire voting shares of United Commerce Bank, both Bloomington, Indiana.

Comments on this application must be received by February 17, 2010.

Board of Governors of the Federal Reserve System, February 4, 2010.
Robert deV. Frierson,
Deputy Secretary of the Board.

[FR Doc. 2010-2756 Filed 2-8-10; 8:45 am]

BILLING CODE 6210-01-S